DEPARTMENT OF TRANSPORTATION

Federal Highway Administration

Buy America Waiver Notification

AGENCY: Federal Highway Administration (FHWA), DOT.

ACTION: Notice.

SUMMARY: This notice provides information regarding the FHWA's finding that a Buy America waiver is appropriate for use of non-domestic 1” diameter hollow core threaded share anchor rods in construction of Federal-aid project # X-STP-1525 (004) in Oregon.

DATES: The effective date of the waiver is July 1, 2010.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application of such requirements would be inconsistent with the public interest or when satisfactory quality domestic steel and iron products are not sufficiently available. This notice provides information regarding the FHWA's finding that a Buy America waiver is appropriate for the use of non-domestic 1″ diameter hollow core threaded share anchor rods for construction of a Federal-aid project in Oregon.

In accordance with the Division I, section 126 of the “Omnibus Appropriations Act, 2009” (Pub. L. 111-8), the FHWA published on its Web site a notice of intent to issue a waiver for the 1″ diameter hollow core threaded share anchor rods (http://www.fhwa.dot.gov/construction/contracts/waivers.cfm?id=43) on November 5th. The FHWA received four comments in response to this proposed waiver. Two of the comments concerned the availability of 1″ diameter hollow core threaded anchor rods and the other two were general comments unrelated to the domestic availability of this product. With respect to the two comments concerning the domestic availability of this product, one comment agreed that the product is not domestically available. The other comment noted three Web sites to manufacturers that may be able to produce this product. The FHWA spoke to representatives from two of the manufacturers who confirmed that they do not make the product. With respect to the third Web site (rods.pronto.com), the FHWA could not locate a specific Web site with this address.

In addition, during the 15-day comment period, the FHWA conducted additional nationwide review to locate potential domestic manufacturers for the 1″ diameter hollow core threaded share anchor rods. Based on all the information available to the agency, the FHWA concludes that there are no domestic manufacturers for the 1″ diameter hollow core threaded share anchor rods. Thus, the FHWA concludes that a Buy America waiver is appropriate for the 1″ diameter hollow core threaded share anchor rods.

In accordance with the provisions of section 117 of the SAFETEA—LU Technical Corrections Act of 2008 (Pub. L. 110-244, 122 Stat.1572), the FHWA is providing this notice as its finding that a waiver of Buy America requirements is appropriate. The FHWA invites public comment on this finding for an additional 15 days following the effective date of the finding. Comments may be submitted to the FHWA's Web site via the link provided to the Oregon waiver pages noted above.

Authority: 23 U.S.C. 313; Pub. L. 110-161, 23 CFR 635.410.

Issued on: June 23, 2010.
King W. Gee,
Associate Administrator for Infrastructure.

[FR Doc. 2010-15849 Filed 6-29-10; 8:45 am]

BILLING CODE 4910-22-P